DEPARTMENT OF ENERGY

Federal Energy Regulatory Commission

[Docket No. RP96-320-060]

Gulf South Pipeline Company, LP; Notice of Compliance Filing

July 16, 2003.

Take notice that on July 11, 2003, Gulf South Pipeline Company, LP (Gulf South) filed with the Federal Energy Regulatory Commission (Commission), an Amendment to the NNS Agreement executed between Gulf South and Willmut Gas & Oil Company to include the MDQ reduction provisions contained in Gulf South's tariff. Gulf South states that this filing is being submitted in compliance with the Commission's order issued on July 2, 2003, 104 FERC ¶61,029 (2003).

Gulf South states that it has served copies of this filing upon all parties on the official service list created by the Secretary for this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 23, 2003.

Dated:
Magalie R. Salas,
Secretary.

[FR Doc. 03-18672 Filed 7-21-03; 8:45 am]

BILLING CODE 6717-01-P